DEPARTMENT OF DEFENSE

Office of the Secretary

[Docket ID: DOD-2018-OS-0054]

Submission for OMB Review; Comment Request

AGENCY: Office of the Under Secretary of Defense for Research and Engineering, DoD.

ACTION: 30-Day information collection notice.

SUMMARY: The Department of Defense has submitted to OMB for clearance the following proposal for collection of information under the provisions of the Paperwork Reduction Act.

DATES: Consideration will be given to all comments received by November 23, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Defense User Registration System (DURS); OMB Control Number 0704-0546.

Type of Request: Extension.

Number of Respondents: 6,625.

Responses per Respondent: 1.

Annual Responses: 6,625.

Average Burden per Response: 0.2 hours.

Annual Burden Hours: 1,325 hours.

Needs and Uses: Defense Technical Information Center (DTIC) requires all eligible users to be registered for access to DTIC's repository of access-controlled scientific and technical information documents. This system is called the Defense User Registration System, or DURS. The registration of a user enforces validation of an individual's identity, as well as that individual's persona (i.e., whether the individual is DoD, Federal government, or a contractor supporting the DoD or another federal agency) and that individual's authority to access limited and classified documents with distribution controls. A role-based environment based on a user's identification ensures security for DTIC's electronic information collection while the online systems increase availability of information to each user based on his or her mission needs.

Affected Public: Federal Government; Individuals or Households; Business or Other For-Profit; Not-For-Profit Institutions.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: October 19, 2018.
Aaron T. Siegel,
Alternate OSD Federal Register Liaison Officer, Department of Defense.

[FR Doc. 2018-23256 Filed 10-23-18; 8:45 am]

BILLING CODE 5001-06-P